DEPARTMENT OF THE INTERIOR

Fish and Wildlife Service

Cameron Prairie National Wildlife Refuge, Cameron Parish, Louisiana

AGENCY: Fish and Wildlife Service, Interior

ACTION: Notice of availability of the Final Comprehensive Conservation Plan and Finding of No Significant Impact for Cameron Prairie National Wildlife Refuge.

SUMMARY: The Fish and Wildlife Service announces that a Final Comprehensive Conservation Plan and Finding of No Significant Impact for Cameron Prairie National Wildlife Refuge are available for distribution. The plan was prepared pursuant to the National Wildlife Refuge system Improvement Act of 1997, and in accordance with the National Environmental Policy Act of 1969, and describes how the refuge will be managed for the next 15 years. The compatibility determinations for (1) recreational fishing; (2) recreational hunting; (3) wildlife observation and wildlife photography; (4) environmental education and interpretation; (5) commercial alligator harvest; (6) commercially guided wildlife viewing, wildlife photography, and environmental education and interpretation; (7) research and monitoring; (8) commercial video and photography; (9) adjacent property access; and (10) beneficial use of dredge material are also included in the plan.

ADDRESSES: A copy of the plan may be obtained by writing to Cameron Prairie National Wildlife Refuge, 1428 Highway 27, Bell City, LA 70630, or by calling 337/598-2216. The plan may also be accessed and downloaded from the Service's Internet Web site at http://southeast.fws.gov/planning/.

SUPPLEMENTARY INFORMATION: Cameron Prairie National Wildlife Refuge is one of the three refuges that comprise the Southwest Louisiana National Wildlife Refuge Complex. It is located about 25 miles southeast of Lake Charles, Louisiana, in north central Cameron Parish. The 9,621-acre refuge and the 64,000-acre multi-agency Cameron Creole Watershed Project, which is managed by the refuge, contain freshwater marsh, coastal prairie, and early successional wetlands and are managed to conserve and protect wintering waterfowl and their habitat.

The availability of the draft comprehensive conservation plan and environmental assessment for a 45-day review as announced in the Federal Register on July 27, 2005 (70 FR 43445). The draft plan and environmental assessment evaluated three alternatives for managing the refuge. Alternative B was chosen as the “preferred alternative.” Under the preferred alternative, the quality and quantity of habitat for wintering waterfowl will be maximized by focusing on a more adaptive management approach through improved biological monitoring. Public use opportunities will generally increase and moer emphasis will be placed on environmental education and interpretation. Commercial guides for wildlife viewing, wildlife photography, and environmental education and interpretation will be permitted. Research and monitoring will be enhanced. Programs to promote the beneficial use of dredge material will be allowed. Current partnerships that assist the refuge in accomplishing its conservation objectives will continue and the refuge will strive to develop new partnerships. A more aggressive approach to removal of undesirable plants and animals will be implemented. Cultural resources will continue to be protected. The refuge will assist in developing and maintaining the Southwest Louisiana National Wildlife Refuge Complex Headquarters, located at Cameron Prairie Refuge, in a manner that supports, directs, and manages the needs, resources, and staff of the entire Complex.

Implementation of the goals, objectives, and strategies within the comprehensive conservation plan will allow the refuge to protect a variety of freshwater marshland and upland prairie habitat; to serve as a critical resting area for waterfowl in a heavily hunted area; to conserve, restore, and enhance diverse habitats for migratory and native wildlife species; to maintain health and viable native fish and wildlife populations; to provide opportunities for safe, quality, compatible, wildlife-dependent public use and recreation; and to protect cultural resources.

FOR FURTHER INFORMATION CONTACT: Judy McClendon, Natural Resource Planer, Cameron Prairie National Wildlife Refuge, 1428 Highway 27, Bell City, LA 70630; Telephone: 337/598-2216; Fax: 337/598-2492; E-mail: judy_mcclendon@fws.gov.

Authority: This notice is published under the authority of the National Wildlife Refuge System Improvement Act of 1997, Public Law 105-57.

Dated: February 6, 2006.
Cynthia K. Dohner,
Acting Regional Director.

[FR Doc. 06-3731 Filed 4-18-06; 8:45 am]

BILLING CODE 4310-55-M